DEPARTMENT OF TRANSPORTATION

Federal Aviation Administration

14 CFR Part 39

[Docket No. 2001-NM-98-AD; Amendment 39-12540; AD 2001-24-23]

RIN 2120-AA64

Airworthiness Directives; McDonnell Douglas Model DC-10-10, -10F, -15, -30, -30F (KC-10A and KDC-10), -40, and -40F Series Airplanes

AGENCY: Federal Aviation Administration, DOT.

ACTION: Final rule.

SUMMARY: This amendment adopts a new airworthiness directive (AD), applicable to certain McDonnell Douglas Model DC-10-10, -10F, -15, -30, -30F (KC-10A and KDC-10), -40, and -40F series airplanes, that requires modification of the battery ground cable installation in the center accessory compartment (CAC). The actions specified by this AD are intended to prevent a loose ground stud and/or cable attachments, and consequent chafing of adjacent structure and electrical arcing, which could result in smoke/fire in the CAC in the event of fuel leakage. This action is intended to address the identified unsafe condition.

DATES: Effective January 16, 2002.

The incorporation by reference of certain publications listed in the regulations is approved by the Director of the Federal Register as of January 16, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Natalie Phan-Tran, Aerospace Engineer, Systems and Equipment Branch, ANM-130L, FAA, Los Angeles Aircraft Certification Office, 3960 Paramount Boulevard, Lakewood, California 90712-4137; telephone (562) 627-5343; fax (562) 627-5210.

SUPPLEMENTARY INFORMATION: A proposal to amend part 39 of the Federal Aviation Regulations (14 CFR part 39) to include an airworthiness directive (AD) that is applicable to certain McDonnell Douglas Model DC-10-10, -15, -30, -30F (KC-10A and KDC-10), and -40 series airplanes was published in the Federal Register on July 23, 2001 (66 FR 38193). That action proposed to require modification of the battery ground cable installation in the center accessory compartment.

Comments

Interested persons have been afforded an opportunity to participate in the making of this amendment. Due consideration has been given to the comments received.

Request To Withdraw Proposed AD

The commenters object to the proposed AD as being unnecessary. One operator, having operated affected airplanes for 29 years, reports that the subject battery ground stud and cable installations have been inspected numerous times during this period in accordance with the FAA-approved DC-10 maintenance program. This operator notes that there has been no history of arcing due to loosening of the ground stud and cable attachments. The commenter adds that any deterioration related to arcing would have been identified and corrected by the maintenance program.

The FAA does not concur with the request to withdraw the proposed AD. The FAA acknowledges that Model DC-10 series airplanes have an extensive life of service and that numerous inspections have been performed as part of the FAA-approved DC-10 maintenance program. (All operators are required to maintain their airplanes in accordance with an FAA-approved maintenance program as required for continued airworthiness.) However, the FAA finds that the subject inspections of the maintenance program do not adequately address certain in-service difficulties and thus do not adequately address the identified unsafe condition. Therefore, the FAA has determined that the proposed rule is appropriate and warranted.

Request To Extend Compliance Time

In lieu of withdrawal of the proposed AD, the commenters request an extension of the proposed compliance time. The commenters state that the extensive in-service history concerning the subject area supports an extension of the compliance time. In addition, the commenters assert that the proposed actions would be best accommodated during planned multiple-day maintenance visits within a compliance time of 18 months.

The FAA does not concur. Due to the degree of urgency associated with addressing the subject unsafe condition, an 18-month compliance time would not provide an adequate level of safety. Therefore, no change to the final rule is necessary in this regard.

Request To Revise Cost Estimate

The commenters disagree with the proposed AD's estimate of 2 work hours required for the modification. The commenters estimate that the modification would take 9.5 work hours.

The FAA has reconsidered the amount of time necessary to accomplish the modification and has increased its estimate to 5 work hours per airplane. The cost impact section of this final rule has been revised accordingly.

Explanation of Change to Applicability

The FAA finds that Model DC-10-10F, -30F, and -40F series airplanes were not specifically identified by model in the applicability of the proposed AD; however, they were identified by manufacturer's fuselage numbers in McDonnell Douglas Alert Service Bulletin DC10-24A174, dated June 29, 2001 (which was referenced in the applicability statement of the proposed AD for the identification of the specific affected airplanes). Therefore, the FAA has revised the applicability throughout the final rule to include Model DC-10-10F, -30F, and -40F series airplanes.

Conclusion

After careful review of the available data, including the comments noted above, the FAA has determined that air safety and the public interest require the adoption of the rule with the changes previously described. The FAA has determined that these changes will neither significantly increase the economic burden on any operator nor increase the scope of the AD.

Cost Impact

There are approximately 402 airplanes of the affected design in the worldwide fleet. The FAA estimates that 312 airplanes of U.S. registry will be affected by this AD, that it will take approximately 5 work hours per airplane to accomplish the required actions, and that the average labor rate is $60 per work hour. Required parts will cost approximately $2,282 per airplane. Based on these figures, the cost impact of the AD on U.S. operators is estimated to be $805,584, or $2,582 per airplane.

The cost impact figure discussed above is based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-24-23 McDonnell Douglas: Amendment 39-12540. Docket 2001-NM-98-AD.

Applicability: Model DC-10-10, -10F, -15, -30, -30F (KC-10A and KDC-10), -40, and -40F series airplanes; as listed in McDonnell Douglas Alert Service Bulletin DC10-24A174, dated June 29, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent a loose ground stud and/or cable attachments, and consequent chafing of adjacent structure and electrical arcing, which could result in smoke/fire in the center accessory compartment (CAC) in the event of fuel leakage, accomplish the following:

Modification

(a) Within 12 months after the effective date of this AD, modify the battery ground cable installation in the CAC per McDonnell Douglas Alert Service Bulletin DC10-24A174, dated June 29, 2001.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permit

(c) Special flight permits may be issued in accordance with sections 21.197 and 21.199 of the Federal Aviation Regulations (14 CFR 21.197 and 21.199) to operate the airplane to a location where the requirements of this AD can be accomplished.

Incorporation by Reference

(d) The actions shall be done in accordance with McDonnell Douglas Alert Service Bulletin DC10-24A174, dated June 29, 2001. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(e) This amendment becomes effective on January 16, 2002.

Issued in Renton, Washington, on November 28, 2001.
Vi L. Lipski,
Manager, Transport Airplane Directorate, Aircraft Certification Service.

[FR Doc. 01-30199 Filed 12-11-01; 8:45 am]

BILLING CODE 4910-13-P